DEPARTMENT OF COMMERCE

International Trade Administration

[A-489-501]

Certain Welded Carbon Steel Pipe and Tube from Turkey: Notice of Rescission, in Part, of Antidumping Duty Administrative Review

AGENCY: Import Administration, International Trade Administration, Department of Commerce.

EFFECTIVE DATE: February 17, 2009.

FOR FURTHER INFORMATION CONTACT: Dennis McClure or Chris Hargett, AD/CVD Operations, Office 3, Import Administration, International Trade Administration, U.S. Department of Commerce, 14th Street and Constitution Avenue, NW, Washington, DC 20230; telephone: (202) 482-5973, or (202) 482-4161, respectively.

SUPPLEMENTARY INFORMATION:

Background

On May 28, 2004, in accordance with 19 CFR 351.213(b), domestic interested party Allied Tube and Conduit Corporation requested a review of the Borusan Group and Toscelik Profil ve Sac Endustrisi A.S. (“Toscelik”), producers of certain welded carbon steel pipe and tube (“welded pipe and tube”) from Turkey. On July 1, 2008, the Department of Commerce (“the Department”) published a notice of initiation of administrative review of the antidumping duty order on welded pipe and tube from Turkey, for the period May 1, 2007, through April 30, 2008. See Initiation of Antidumping and Countervailing Duty Administrative Reviews and Request for Revocations in Part, 73 FR 37409 (July 1, 2008). On July 8, 2008, Toscelik informed the Department that it had no sales, shipments or entries of subject merchandise in or to the United States, during the period of review. On October 10, 2008, the Department published a notice of intent to rescind the administrative review in part. See Welded Carbon Steel Pipe and Tube from Turkey: Notice of Intent to Rescind Antidumping Duty Administrative Review, In Part, 73 FR 60240 (October 10, 2008) (“Notice of Intent to Rescind”). The Department invited comment on the Department's intent to rescind the administrative review, with respect to Toscelik, within 30 days of the publication of the Notice of Intent to Rescind.

Scope of the Order

The products covered by this order include circular welded non-alloy steel pipes and tubes, of circular cross-section, not more than 406.4 millimeters (16 inches) in outside diameter, regardless of wall thickness, surface finish (black, or galvanized, painted), or end finish (plain end, beveled end, threaded and coupled). Those pipes and tubes are generally known as standard pipe, though they may also be called structural or mechanical tubing in certain applications. Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells.

The scope is not limited to standard pipe and fence tubing, or those types of mechanical and structural pipe that are used in standard pipe applications. All carbon steel pipes and tubes within the physical description outlined above are included in the scope of this order, except for line pipe, oil country tubular goods, boiler tubing, cold-drawn or cold-rolled mechanical tubing, pipe and tube hollows for redraws, finished scaffolding, and finished rigid conduit.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.

Rescission of Administrative Review

On October 10, 2008, the Department published in the Federal Register its intent to rescind the administrative review in part. See Notice of Intent to Rescind. In that notice we stated that since our examination of the entry data from U.S. Customs and Border Protection for Toscelik confirmed its assertion that it did not have shipments to the United States during the POR, we intended to rescind this review with respect to Toscelik. Furthermore, we received no comments. Consequently, the Department continues to treat Toscelik as a non-shipper for purposes of this review.

Pursuant to 19 CFR 351.213(d)(3), the Department may rescind an administrative review with respect to a particular exporter or producer if the Department concludes that during the POR there were no entries, exports, or sales of the subject merchandise. Because there is no record evidence of entries, exports or sales of the subject merchandise by Toscelik, we are rescinding this review in part.

As a result of the rescission of this administrative review with respect to Toscelik, only one respondent, the Borusan Group, remains in this review.

We are issuing this notice in accordance with sections 751(a)(1) and 777(i)(1) of the Tariff Act of 1930 as amended, and section 351.213(d)(4) of the Department's regulations.

Dated: February 9, 2009.
John M. Andersen,
Acting Deputy Assistant Secretary for Antidumping and Countervailing Duty Operations.

[FR Doc. E9-3178 Filed 2-13-09; 8:45 am]

BILLING CODE 3510-DS-S